DEPARTMENT OF ENERGY

Federal Energy Regulatory Commission

Combined Notice of Filings #1

Take notice that the Commission received the following electric rate filings:

Docket Numbers: ER18-2118-001; ER10-1846-009; ER10-1849-015; ER10-1852-021; ER10-1855-009; ER10-1887-015; ER10-1920-017; ER10-1928-017; ER10-1952-015; ER10-1961-015; ER10-1994-009; ER10-1995-010; ER10-2551-010; ER10-2720-017; ER11-2642-010; ER11-4428-017; ER11-4462-030; ER12-1228-017; ER12-1880-016; ER12-2227-015; ER12-569-016; ER12-895-015; ER13-2474-011; ER13-712-017; ER14-2707-012; ER14-2708-013; ER14-2709-012; ER14-2710-012; ER15-1925-009; ER15-2676-008; ER15-30-010; ER15-58-010; ER16-1440-006; ER16-1672-006; ER16-2190-005; ER16-2191-005; ER16-2240-006; ER16-2241-005; ER16-2275-005; ER16-2276-005; ER16-2297-005; ER16-2453-006; ER17-2152-002; ER17-838-005; ER18-1981-001; ER18-2003-001; ER18-2032-001; ER18-2066-001; ER18-2067-002; ER18-2182-001; ER18-2314-002; ER18-882-001.

Applicants: Armadillo Flats Wind Project, LLC, Baldwin Wind, LLC, Blackwell Wind, LLC, Brady Interconnection, LLC, Brady Wind, LLC, Brady Wind II, LLC, Breckinridge Wind Project, LLC, Cedar Bluff Wind, LLC, Chaves County Solar, LLC, Cimarron Wind Energy, LLC, Cottonwood Wind Project, LLC, Day County Wind, LLC, Elk City Wind, LLC, Elk City Renewables II, LLC, Ensign Wind, LLC, Florida Power & Light Company, FPL Energy Burleigh County Wind, LLC, FPL Energy Cowboy Wind, LLC, FPL Energy Oklahoma Wind, LLC, FPL Energy Sooner Wind, LLC, FPL Energy South Dakota Wind, LLC, Gray County Wind Energy, LLC, High Majestic Wind Energy Center, LLC, High Majestic Wind II, LLC, Kingman Wind Energy I, LLC, Kingman Wind Energy II, LLC, Lorenzo Wind, LLC, Mammoth Plains Wind Project, LLC, Minco Wind, LLC, Minco Wind II, LLC, Minco Wind III, LLC, Minco Wind Interconnection Services, LLC, Minco Wind IV, LLC, Minco IV & V Interconnection, LLC, Minco Wind V, LLC, Ninnescah Wind Energy, LLC, Osborn Wind Energy, LLC, Palo Duro Wind Energy, LLC, Palo Duro Wind Interconnection Services, LLC, Pratt Wind, LLC, Roswell Solar, LLC, Rush Springs Wind Energy, LLC, Seiling Wind, LLC, Seiling Wind II, LLC, Seiling Wind Interconnection Services, LLC, Sholes Wind Energy, LLC, Steele Flats Wind Project, LLC, Wessington Wind Energy Center, LLC, Wildcat Ranch Wind Project, LLC, Wilton Wind II, LLC, NEPM II, LLC, NextEra Energy Marketing, LLC.

Description: Amendment to December 28, 2018 Triennial Market Power Update for the Southwest Power Pool, Inc. Region of the NextEra Companies.

Filed Date: 4/12/19.

Accession Number: 20190412-5082.

Comments Due: 5 p.m. ET 5/3/19.

Docket Numbers: ER18-2337-003.

Applicants: Blackstone Wind Farm, LLC.

Description: Compliance filing: Compliance filing from April Order to be effective 10/28/2018.

Filed Date: 4/12/19.

Accession Number: 20190412-5008.

Comments Due: 5 p.m. ET 5/3/19.

Docket Numbers: ER19-605-003.

Applicants: Republic Transmission, LLC.

Description: Tariff Amendment: Republic Transmission, LLC Deficiency Filing ER19-605 to be effective 2/26/2019.

Filed Date: 4/12/19.

Accession Number: 20190412-5142.

Comments Due: 5 p.m. ET 5/3/19.

Docket Numbers: ER19-1561-000.

Applicants: California Independent System Operator Corporation.

Description: § 205(d) Rate Filing: 2019-04-11 RDRR Dispatch Clarification Amendment to be effective 6/11/2019.

Filed Date: 4/11/19.

Accession Number: 20190411-5142.

Comments Due: 5 p.m. ET 5/2/19.

Docket Numbers: ER19-1562-000.

Applicants: California Independent System Operator Corporation.

Description: § 205(d) Rate Filing: 2019-04-11 RAAIM Exempted Outages Amendment to be effective 6/17/2019.

Filed Date: 4/11/19.

Accession Number: 20190411-5149.

Comments Due: 5 p.m. ET 5/2/19.

Docket Numbers: ER19-1563-000.

Applicants: Consolidated Edison Company of New York, Inc.

Description: § 205(d) Rate Filing: Energy Storage Filing 4-11-2019 to be effective 4/24/2019.

Filed Date: 4/12/19.

Accession Number: 20190412-5001.

Comments Due: 5 p.m. ET 5/3/19.

Docket Numbers: ER19-1564-000.

Applicants: Spruance Genco, LLC.

Description: Petition for Limited Waiver of Tariff Deadlines, et al. of Spruance Genco, LLC.

Filed Date: 4/11/19.

Accession Number: 20190411-5163.

Comments Due: 5 p.m. ET 5/2/19.

Docket Numbers: ER19-1565-000.

Applicants: Duke Energy Carolinas, LLC.

Description: Notice of Cancellation of Conforming Service Agreements (AEP SA Nos. 17 and 162) of Duke Energy Carolinas, LLC.

Filed Date: 4/12/19.

Accession Number: 20190412-5047.

Comments Due: 5 p.m. ET 5/3/19.

Docket Numbers: ER19-1566-000.

Applicants: Duke Energy Florida, LLC.

Description: Notice of Cancellation of Conforming Service Agreement (SA No. 999C) of Duke Energy Florida, LLC.

Filed Date: 4/12/19.

Accession Number: 20190412-5048.

Comments Due: 5 p.m. ET 5/3/19.

Docket Numbers: ER19-1567-000.

Applicants: Duke Energy Beckjord, LLC.

Description: Tariff Cancellation: Duke Energy Beckjord Tariff Cancellation to be effective 6/12/2019.

Filed Date: 4/12/19.

Accession Number: 20190412-5190.

Comments Due: 5 p.m. ET 5/3/19.

Docket Numbers: ER19-1568-000.

Applicants: Duke Energy SAM, LLC.

Description: Tariff Cancellation: Cancellation of Tariff ID to be effective 6/12/2019.

Filed Date: 4/12/19.

Accession Number: 20190412-5193.

Comments Due: 5 p.m. ET 5/3/19.

Docket Numbers: ER19-1569-000.

Applicants: Virginia Electric and Power Company, PJM Interconnection, L.L.C.

Description: § 205(d) Rate Filing: Dominion submits revisions to OATT, Att. H-16A re: M&S Inventory Component to be effective 6/15/2019.

Filed Date: 4/12/19.

Accession Number: 20190412-5198.

Comments Due: 5 p.m. ET 5/3/19.

Take notice that the Commission received the following electric securities filings:

Docket Numbers: ES19-20-000.

Applicants: Monongahela Power Company.

Description: Application under Section 204 of the Federal Power Act for Authorization to Issue or Borrow Securities, et al. of Monongahela Power Company.

Filed Date: 4/11/19.

Accession Number: 20190411-5161.

Comments Due: 5 p.m. ET 5/2/19.

Docket Numbers: ES19-21-000.

Applicants: DTE Electric Company.

Description: Application under Section 204 of the Federal Power Act for Authorization to Issue Securities of DTE Electric Company.

Filed Date: 4/12/19.

Accession Number: 20190412-5094.

Comments Due: 5 p.m. ET 5/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2019.
Nathaniel J. Davis, Sr.,
Deputy Secretary.

[FR Doc. 2019-07756 Filed 4-17-19; 8:45 am]

BILLING CODE 6717-01-P